DEPARTMENT OF THE INTERIOR

Geological Survey

[GX13GG009950000]

Scientific Earthquake Studies Advisory Committee

AGENCY: U.S. Geological Survey.

ACTION: Notice of Meeting.

SUMMARY: Pursuant to Public Law 106-503, the Scientific Earthquake Studies Advisory Committee (SESAC) will hold its next meeting on the campus of the Colorado School of Mines, Ballroom B, in Golden, Colorado. The Committee is comprised of members from academia, industry, and State government. The Committee shall advise the Director of the U.S. Geological Survey (USGS) on matters relating to the USGS's participation in the National Earthquake Hazards Reduction Program.

The Committee will receive reports on the status of activities of the Program and progress toward Program goals and objectives. The Committee will assess this information and provide guidance on the future undertakings and direction of the Earthquake Hazards Program.

Meetings of the Scientific Earthquake Studies Advisory Committee are open to the public.

DATES: October 29, 2012, commencing at 8:30 a.m. and adjourning at Noon on October 30, 2012.

Contact: Dr. William Leith, U.S. Geological Survey, MS 905, 12201 Sunrise Valley Drive, Reston, Virginia 20192, (703) 648-6786, wleith@usgs.gov.

Dated: October 9, 2012.
David Newman,
Federal Liaison.

[FR Doc. 2012-25159 Filed 10-12-12; 8:45 am]

BILLING CODE 4311-AM-P